DEPARTMENT OF TRANSPORTATION

Federal Aviation Administration

Alternate Means of Compliance; JAR 22, Change 5

AGENCY: Federal Aviation Administration, DOT.

ACTION: Notice of availability.

SUMMARY: This document announces the availability of an alternate means of compliance for glider stall speed requirements. The FAA certificates gliders under 14 CFR part 21, § 21.17. Guidance found in AC 21.17-2A states that one acceptable criterion for glider certification is Joint Airworthiness Regulation (JAR) 22, which is the European standard for gliders. JAR 22, Change 5 (JAR 22.49(b)(2)) defines the requirements for stall speed. This alternate means of compliance allows the Rollanden-Schneider Flugzeugbau GmbH Model LS-8 glider to be type certificated with a higher stalling speed because the Model LS-8 has compensating features.

Discussion: On July 9, 2001, an alternate means of compliance, Finding No. ACE-01-05, was issued for the Model LS-8 glider. We have determined that this same alternate means would be usable by other glider manufacturers following adequate FAA review. Therefore, we are making this alternate means available to all glider manufacturers for their use.

ADDRESSES: Copies of alternate means of compliance Finding No. ACE-01-05, may be requested from the folllowing: Small Airplane Directorate, Standards Office (ACE-110), Aircraft Certification Office, Federal Aviation Administration, 901 Locust, Room 301, Kansas City, MO 64106. The alternate means of compliance is also available on the Internet at the following address http://www.faa.gov/avr/air/ace/acehome.htm.

FOR FURTHER INFORMATION CONTACT: Lowell Foster, Federal Aviation Administration, Small Airplane Directorate, ACE-111, Room 301, 901 Locust, Kansas City, Missouri 64106; telephone (816) 329-4125; fax 816-329-3047; e-mail: Lowell.Foster@faa.gov.

Issued in Kansas City, Missouri, on July 30, 2001.
James E. Jackson,
Acting Manager, Small Airplane Directorate, Aircraft Certification Service.

[FR Doc. 01-20036 Filed 8-8-01; 8:45 am]

BILLING CODE 4910-13-P